DEPARTMENT OF LABOR

Mine Safety and Health Administration

[OMB Control No. 1219-0088]

Proposed Extension of Information Collection; Ventilation Plans, Tests, and Examinations in Underground Coal Mines

AGENCY: Mine Safety and Health Administration, Labor.

ACTION: Request for public comments.

SUMMARY: The Department of Labor, as part of its continuing effort to reduce paperwork and respondent burden, conducts a pre-clearance consultation program to provide the general public and Federal agencies with an opportunity to comment on proposed collections of information in accordance with the Paperwork Reduction Act of 1995. This program helps to ensure that requested data can be provided in the desired format, reporting burden (time and financial resources) is minimized, collection instruments are clearly understood, and the impact of collection requirements on respondents can be properly assessed. Currently, the Mine Safety and Health Administration (MSHA) is soliciting comments on the information collection for Ventilation Plans, Tests, and Examinations in Underground Coal Mines.

DATES: All comments must be received on or before September 17, 2018.

ADDRESSES: Comments concerning the information collection requirements of this notice may be sent by any of the methods listed below.

• Federal E-Rulemaking Portal: http://www.regulations.gov. Follow the on-line instructions for submitting comments for docket number MSHA-2018-0025.

• Regular Mail: Send comments to USDOL-MSHA, Office of Standards, Regulations, and Variances, 201 12th Street South, Suite 4E401, Arlington, VA 22202-5452.

• Hand Delivery: USDOL-Mine Safety and Health Administration, 201 12th Street South, Suite 4E401, Arlington, VA 22202-5452. Sign in at the receptionist's desk on the 4th floor via the East elevator.

FOR FURTHER INFORMATION CONTACT: Sheila McConnell, Director, Office of Standards, Regulations, and Variances, MSHA, at MSHA.information.collections@dol.gov (email); (202) 693-9440 (voice); or (202) 693-9441 (facsimile).

SUPPLEMENTARY INFORMATION:

I. Background

Section 103(h) of the Federal Mine Safety and Health Act of 1977 (Mine Act), 30 U.S.C. 813(h), authorizes MSHA to collect information necessary to carry out its duty in protecting the safety and health of miners. Under Section 101(a) of the Federal Mine Safety and Health Act of 1977 (Mine Act), the Secretary of Labor (Secretary) may by rule in accordance with procedures set forth in this section and in accordance with section 553 of Title 5, United States Code (without regard to any reference in such section to sections 556 and 557 of such title), develop, promulgate, and revise as may be appropriate, improved mandatory health or safety standards for the protection of life and prevention of injuries in coal or other mines. In addition, section 303 requires that all underground coal mines be ventilated by mechanical ventilation equipment installed and operated in a manner approved by an authorized representative of the Secretary and such equipment be examined daily and a record be kept of such examination.

Underground coal mines usually present harsh and hostile working environments. The ventilation system is the most vital life support system in underground mining and a properly operating ventilation system is essential for maintaining a safe and healthful working environment. Lack of adequate ventilation in underground mines has resulted in fatalities from asphyxiation and explosions.

An underground mine is a maze of tunnels that must be adequately ventilated with fresh air to provide a safe environment for miners. Methane is liberated from the strata, and noxious gases and dusts from blasting and other mining activities may be present. The explosive and noxious gases and dusts must be diluted, rendered harmless, and carried to the surface by the ventilating currents. Sufficient air must be provided to maintain the level of respirable dust at or below specific exposure limits and air quality must be maintained in accordance with MSHA standards. Mechanical ventilation equipment of sufficient capacity must operate at all times while miners are in the mine. Ground conditions are subject to frequent changes, thus sufficient tests and examinations are necessary to ensure the integrity of the ventilation system and to detect any changes that may require adjustments in the system. Records of tests and examinations are necessary to ensure that the ventilation system is being maintained and that changes which could adversely affect the integrity of the system or the safety of the miners are not occurring. These examination, reporting and recordkeeping requirements of sections 75.310, 75.312, 75.342, 75.351, 75.360 through 75.364, 75.370, 75.371, and 75.382 also incorporate examinations of other critical aspects of the underground work environment such as roof conditions and electrical equipment which have historically caused numerous fatalities when not properly maintained and operated.

Section 75.362, On-shift Examinations, was revised at subsection 75.362 (a)(2) and (g)(2)-(4) by MSHA's rule titled “Lowering Miners' Exposure to Respirable Coal Mine Dust, Including Continuous Personal Dust Monitors, ” published May 1, 2014. This rule also revised subsection 75.371(f) and (j).

Subsection 75.362(a)(2) requires that a person designated by the operator conduct an examination and record the results and the corrective actions taken to assure compliance with the respirable dust control parameters specified in the approved mine ventilation plan.

Under subsection 75.362(g)(2)(i), the certified person directing the on-shift examination must certify by initials, date, and time on a board maintained at the section load out or similar location showing that the examination was made prior to resuming production. No increased burden is estimated for section 75.362(g)(2)(i) in this Information Collection Request (ICR) because MSHA does not expect the burden to be different from the burden in existing section 75.362(g)(2)).

Under section 75.362(g)(2)(ii), the certified person directing the on-shift examination must verify, by initials, date and time, the record of the results of the examination required under section 75.362(a)(2) to assure compliance with the respirable dust control parameters specified in the mine ventilation plan. Further, section 75.362(g)(3) requires a mine foreman or equivalent mine official to countersign each examination record required under section 75.362(a)(2) after it is verified by the certified person under section 75.362(g)(2)(ii), and no later than the end of the mine foreman's or equivalent mine official's next regularly scheduled working shift. Section 75.362(g)(2)(ii) and (g)(3) are additional burdens that are accounted for in this ICR and 75.362(g)(2)(ii)(4) requires the records be retained at a surface location at the mine for at least 1 year and shall be made available for inspection by authorized representatives of the Secretary and the representative of miners.

Paragraph (a)(2) in section 75.370 (Mine ventilation plan; submission and approval) contains the burden for underground coal mine operators to submit mine ventilation plan revisions for District Manager approval. Each mine ventilation plan must include information that is specified by section 75.371 (Mine ventilation plan; contents).

Section 75.371(f) adds the following information that a mine operator must include in the mine ventilation plan: the minimum quantity of air that will be delivered to the working section for each mechanized mining unit (MMU), and the identification by make and model, of each different dust suppression system used on equipment on each working section, including: (1) The number, types, location, orientation, operating pressure, and flow rate of operating water sprays; (2) the maximum distance that ventilation control devices will be installed from each working face when mining or installing roof bolts in entries and crosscuts; (3) procedures for maintaining the roof bolter dust collection system in approved condition; and (4) recommended best work practices for equipment operators to minimize dust exposure.

Section 75.371(j) adds a requirement that for machine mounted dust collectors, the ventilation plan must include the type and size of dust collector screens used and a description of the procedures to be followed to properly maintain dust collectors used on the equipment.

Section 75.370(a)(2) requires all underground coal mine operators to submit revisions for mine ventilation plans to MSHA. The burden to submit the additional information required by section 75.371(f) and (j) as proposed revisions to the plan is accounted for in this package under section 75.370(a)(2). In addition, section 75.370(a)(3)(i) requires underground coal mine operators to notify the miners' representative at least 5 days prior to submission of mine ventilation plan revisions and, if requested, provide a copy of the revisions to the miners' representative at the time of notification. Section 75.370(a)(3)(iii) and (f)(3) require the operator to post a copy of the plan revisions, and section 75.370(f)(1) requires that the operator provide a copy of the revisions to the miners' representative, if requested. MSHA assumes that a copy of the revisions will be requested. The burdens for notification, providing requested copies, and posting associated with mine ventilation plan revisions resulting from section 75.371(f) and (j) are accounted for in this package under section 75.370(a)(3)(i), (f)(1), (a)(3)(iii), and (f)(3) respectively.

II. Desired Focus of Comments

MSHA is soliciting comments concerning the proposed information collection related to Ventilation Plans, Tests, and Examinations in Underground Coal Mines. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on http://www.regulations.gov. MSHA cautions the commenter against providing any information in the submission that should not be publicly disclosed. Full comments, including personal information provided, will be made available on www.regulations.gov and www.reginfo.gov.

The public may also examine publicly available documents at USDOL-Mine Safety and Health Administration, 201 12th South, Suite 4E401, Arlington, VA 22202-5452. Sign in at the receptionist's desk on the 4th floor via the East elevator.

Questions about the information collection requirements may be directed to the person listed in the FOR FURTHER INFORMATION CONTACT section of this notice.

III. Current Actions

This request for collection of information contains provisions for Ventilation Plans, Tests, and Examinations in Underground Coal Mines. MSHA has updated the data with respect to the number of respondents, responses, burden hours, and burden costs supporting this information collection request.

Type of Review: Extension, without change, of a currently approved collection.

Agency: Mine Safety and Health Administration.

OMB Number: 1219-0088.

Affected Public: Business or other for-profit.

Number of Respondents: 255.

Frequency: On occasion.

Number of Responses: 1,164,908.

Annual Burden Hours: 142,550 hours.

Annual Respondent or Recordkeeper Cost: $91,870.

Comments submitted in response to this notice will be summarized and included in the request for Office of Management and Budget approval of the information collection request; they will also become a matter of public record.

Sheila McConnell,
Certifying Officer.

[FR Doc. 2018-15217 Filed 7-16-18; 8:45 am]

BILLING CODE 4510-43-P